DEPARTMENT OF HEALTH AND HUMAN SERVICES

Administration on Aging

Agency Information Collection Activities; Submission for OMB Review; Comment Request; Semi-Annual and Final Reporting Requirements for the Older Americans Act Title IV Discretionary Grant Program

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 27, 2006.

ADDRESSES: Submit written comments on the collection of information by fax 202.395.6974 or by mail to the Office of Information and Regulatory Affairs, OMB, New Executive Office Bldg., 725 17th St. NW., rm. 10235, Washington, DC 20503, Attn: Brenda Aguilar, Desk Officer for AoA.

FOR FURTHER INFORMATION CONTACT: Greg Case at (202) 357-3442 or greg.case@aoa.hhs.gov.

SUPPLEMENTARY INFORMATION: In compliance with 44 U.S.C. 3507, AoA has submitted the following proposed collection of information to OMB for review and clearance.

Title of Information Collection: Performance Progress Reports for Title IV Grantees.

Type of Request: Revision of Performance Reporting Guidelines and Format. Use: Revision of reporting guidelines and format for use by Title IV grantees in reporting on activities of their Title IV Discretionary Funds Projects as required under Title IV of the Older Americans Act, as amended.

AoA estimates the burden of this collection of information as follows:

Frequency: Semi-annual Performance Reports and a Final Report.

Respondents: States, public agencies, private nonprofit agencies, institutions of higher education, and organizations including tribal organizations.

Estimated Number of Responses: 300.

Total Estimated Burden Hours: 12,000.

Dated: June 22, 2006.
Josefina G. Carbonell,
Assistant Secretary for Aging.

[FR Doc. E6-10100 Filed 6-26-06; 8:45 am]

BILLING CODE 4154-01-P